NATIONAL SCIENCE FOUNDATION

Proposal Review Panel for Materials Research; Notice of Meeting

In accordance with the Federal Advisory Committee Act (Pub. L. 92-463 as amended), the National Science Foundation announces the following meeting:

Name: Site visit review of the Materials Research Science and Engineering Center (MRSEC) at New York University by NSF Division of Materials Research (DMR) #1203.

Dates and Times:

Sunday, December 6, 2009 7 p.m.-9 p.m.

Monday, December 7, 2009 8 a.m.-4 p.m.

Place: New York University, New York, NY.

Type of Meeting: Part-open.

Contact Person: Dr. William Brittain, Program Director, Materials Research Science and Engineering Centers Program, Division of Materials Research, Room 1065, National Science Foundation, 4201 Wilson Boulevard, Arlington, VA 22230, Telephone (703) 292-5039.

Purpose of Meeting: To provide advice and recommendations concerning progress of the MRSEC at New York University.

Agenda:

Sunday, December 6, 2009

7 p.m.-9 p.m. Closed—Executive Session.

Monday, December 7, 2009

8 a.m.-2 p.m. Open—Review of New York Univ MRSEC.

2 p.m.-4 p.m. Closed—Executive Session.

Reason for Closing: The work being reviewed may include information of a proprietary or confidential nature, including technical information; financial data, such as salaries and personal information concerning individuals associated with the proposals. These matters are exempt under 5 U.S.C. 552 b(c), (4) and (6) of the Government in the Sunshine Act.

Dated: November 10, 2009.
Susanne Bolton,
Committee Management Officer.

[FR Doc. E9-27391 Filed 11-13-09; 8:45 am]

BILLING CODE 7555-01-P